DEPARTMENT OF COMMERCE

National Oceanic and Atmospheric Administration

Proposed Information Collection; Comment Request; Atlantic Mackerel, Squid, and Butterfish Amendment 14 Data Collection

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 17, 2020.

ADDRESSES: Direct all written comments to Adrienne Thomas, PRA Officer, NOAA, 151 Patton Avenue, Room 159, Asheville, NC 28801 or via the internet at PRAcomments@doc.gov. Comments will generally be posted without change. Please do not include information of a confidential nature, such as sensitive personal information or proprietary information. All Personally Identifiable Information (for example, name and address) voluntarily submitted may be publicly accessible.

FOR FURTHER INFORMATION CONTACT: Requests for additional information or copies of the information collection instrument and instructions should be directed to Alyson Pitts, Greater Atlantic Region, Sustainable Fisheries Office, 55 Great Republic Drive, Gloucester, MA 01930, (978) 281-9352, Alyson.Pitts@noaa.gov.

SUPPLEMENTARY INFORMATION:

I. Abstract

This request is for extension of a current information collection. Under the Magnuson-Stevens Fishery Conservation and Management Act, the Secretary of Commerce has the responsibility for the conservation and management of marine fishery resources. Much of this responsibility has been delegated to NOAA's National Marine Fisheries Service (NMFS). Under this stewardship role, the Secretary was given certain regulatory authorities to ensure the most beneficial uses of these resources. One of the regulatory steps taken to carry out the conservation and management objectives is to collect information from users of the resources.

This collection requires vessel trip reports (VTRs) to be submitted weekly for all limited access Atlantic mackerel and longfin squid 1A and 1B permit holders. In addition, all limited access Atlantic mackerel, longfin squid 1A and 1B permit holders must maintain a vessel monitoring system (VMS) unit on their vessels and declare intent to target Atlantic mackerel or longfin squid and submit daily catch reports via VMS. They must also submit daily catch reports via VMS. Vessels that land over 20,000 lb of mackerel must notify NMFS Office of Law Enforcement (OLE) via VMS of the time and place of offloading at least 6 hours prior to crossing the VMS demarcation line on their return trip to port, or if the vessel does not fish seaward of the VMS demarcation line, at least 6 hours prior to landing.

This collection also requires limited access Atlantic mackerel and longfin squid 1A and 1B permit holders to bring all catch aboard the vessel and make it available for sampling by an observer. If catch is not made available to an observer before discard, that catch is defined as slippage, and the vessel operator must complete a “Released Catch Affidavit” form within 48 hours of the end of the fishing trip which details why catch was slipped, estimates the quantity and species composition of the slipped catch, and records the time and location of the slipped catch.

Finally, this collection requires any vessel with a limited access Atlantic mackerel permit intending to land over 20,000 lbs of Atlantic mackerel to contact NMFS at least 48 hours in advance of a fishing trip to request an observer. Vessels currently contact NMFS via phone, and selection notices or waivers are issued by NMFS via VMS. If service providers are unable to provide coverage, an owner, operator, or vessel manager may request a waiver by calling the Northeast Fisheries Observer Program.

This collection is necessary for continued catch monitoring for the Atlantic mackerel, squid, and butterfish fisheries and to address incidental catch of river herring and shad through responsible management.

II. Method of Collection

VTR Requirements

All Atlantic mackerel, squid, and butterfish permit holders must submit VTRs weekly either online or by submitting them by paper form through the mail.

VMS Requirements

Vessels with VMS requirements are required to declare their intent to fish and submit daily catch reports using electronic VMS units on board the vessel. Other VMS actions include trip start and pre-landing notifications, activity and gear codes, and trip type declaration.

Documentation of Slippage Events

Any slippage event that occurs during a trip requires the completion of a “Released Catch Affidavit”, which is submitted by signed paper form sent in the mail.

Observer Program Call-In Requirements

Vessels with a limited access mackerel permit intending to land over 20,000 lb of Atlantic mackerel are required to give advance notification to the Northeast Fisheries Observer Program (NEFOP) before the start of a trip in order to receive a fisheries observer or a waiver. Vessels use a toll-free call-in number or a local phone number to comply with this requirement.

III. Data

OMB Control Number: 0648-0679.

Form Number(s): None.

Type of Review: Regular submission (extension of a current information collection).

Affected Public: Business or other for-profit organizations; Individual or households.

Estimated Number of Respondents: 414.

Estimated Total Annual Burden Hours: 3,751.

Estimated Total Annual Cost to Public: $2,322.

Estimated Time per Response: VTR Reports: 5 minutes; activity declarations: 5 minutes; power-down exemption: 5 minutes; pre-landing notification: 5 minutes; Released Catch Affidavit: 5 minutes; Observer Call In: 5 minutes.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2019-27289 Filed 12-18-19; 8:45 am]

BILLING CODE 3510-22-P